DEPARTMENT OF THE INTERIOR

Bureau of Land Management

[BLM_NV_FRN_MO4500180510]

Notice of Availability of the Draft Resource Management Plan Amendment and Environmental Impact Statement for the Copper Rays Solar Project in Nye County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Resource Management Plan (RMP) Amendment and Draft Environmental Impact Statement (EIS) for the Copper Rays Solar Project and by this notice is providing information announcing the opening of the comment period on the Draft RMP Amendment/EIS.

DATES: This notice announces the opening of a 90-day comment period for the Draft RMP Amendment/EIS beginning with the date following the Environmental Protection Agency's (EPA) publication of its Notice of Availability (NOA) in the Federal Register. The EPA usually publishes its NOAs on Fridays.

To afford the BLM the opportunity to consider comments on the Draft RMP Amendment/EIS, please ensure your comments are received prior to the close of the 90-day comment period or 15 days after the last public meeting, whichever is later.

The BLM will be holding one in-person public meeting and one virtual public meeting during the public comment period.

• In-Person Meeting

—Date and Time: October 22, 2024, 6 p.m. to 8 p.m. Pacific Daylight Time (PDT)

—Location: Pahrump Nugget Hotel and Casino, 681 NV Highway 160, Pahrump, Nevada 89048

• Virtual Meeting

—Date and Time: October 24, 2024, 6 p.m. to 8 p.m. PDT

—Registration information: https://eplanning.blm.gov/eplanning-ui/project/2019523/510

Details on public meetings and pertinent documents will be provided on the National NEPA Register project website: https://eplanning.blm.gov/eplanning-ui/project/2019523/510.

ADDRESSES: The Draft RMP Amendment/EIS is available for review on the BLM National NEPA Register project website at https://eplanning.blm.gov/eplanning-ui/project/2019523/510. Additionally, a copy of the Draft RMP Amendment/EIS is physically available at the following locations:

• BLM Southern Nevada District Office, Pahrump Field Office, 4701 N. Torrey Pines Drive, Las Vegas, Nevada 89130.

• Pahrump Community Library, 701 East Street, Pahrump, Nevada 89408.

• Tecopa Branch Library, 408 Tecopa Hot Springs Road, Tecopa, California 92389.

Written comments related to the Draft RMP Amendment/EIS for the Copper Rays Solar Project may be submitted by any of the following methods:

• Website: https://eplanning.blm.gov/eplanning-ui/project/2019523/510.

• Email: BLM_NV_SND_EnergyProjects@blm.gov.

• Mail: BLM Pahrump Field Office, Attn: Copper Rays Solar Project, 4701 N. Torrey Pines Drive, Las Vegas, Nevada 89130.

FOR FURTHER INFORMATION CONTACT: Jessica Headen, Project Manager, telephone (702) 515-5206; address 4701 N.Torrey Pines Drive, Las Vegas, Nevada 89130; email BLM_NV_SND_EnergyProjects@blm.gov. Individuals in the United States who are deaf, deafblind, hard of hearing, or have a speech disability may dial 711 (TTY, TDD, or TeleBraille) to access telecommunications relay services for contacting Jessica Headen. Individuals outside the United States should use the relay services offered within their country to make international calls to the point-of-contact in the United States.

SUPPLEMENTARY INFORMATION: This document provides notice that the BLM has prepared a Draft RMP Amendment/EIS and provides information announcing the opening of the comment period on the Draft RMP Amendment/EIS. The Draft RMP Amendment is being considered to allow the BLM to evaluate the effects of modifying the Visual Resource Management (VRM) Class III designated lands south of State Route 160 and west of Tecopa Road to the Town of Pahrump, Nevada, to VRM Class IV and modifying two existing undeveloped utility corridors that intersect the Project site. Both changes would require amending the existing 1998 Las Vegas RMP.

The planning area in Clark and Nye counties, Nevada, encompasses approximately 9,890,365 acres within the Southern Nevada District. The total acreage for the VRM Class I through IV areas designated under the 1998 Las Vegas RMP is approximately 3,297,016 acres. This Draft RMP Amendment aims to modify the VRM Class for an area of approximately 9,960 acres of BLM-administered land that is currently designated as VRM Class III and update the BLM's VRM management objectives in this area to VRM Class IV. The amendment area would include the proposed Copper Rays Project site along with other constructed projects and proposed solar applications within the Pahrump Valley.

A BLM designated energy corridor, Segment # 224-225 North Pahrump/U.S. 95 to Las Vegas/Ivanpah Valley (a Section 368 energy corridor) along the Clark County/Nye County border intersects the western portion of the Project site. A locally designated utility corridor, established by the 1998 Las Vegas RMP (the RMP-designated utility corridor), intersects the southwest corner of the Project site. An amendment to the 1998 Las Vegas RMP is being considered to modify these two existing undeveloped corridors to avoid the Project site. The Draft RMP Amendment, if approved, will realign the existing Section 368 energy corridor to be outside of the Project site boundary and remove the Amargosa—Roach section of the RMP-designated utility corridor, which is approximately 96 miles in length.

The BLM is utilizing the NEPA substitution process to comply with the requirements of Section 106 of the National Historic Preservation Act, 54 U.S.C. 306108, consistent with 36 CFR 800.8(c). The BLM, as lead Federal agency, has incorporated information and the steps of the Section 106 process into the Draft EIS, and publication of the Draft EIS will allow the consulting parties and the public an opportunity to review and comment on the process as provided in 36 CFR 800.8(c)(2).

Purpose and Need

The need for the BLM's action (processing the Applicant's application) is to respond to the Applicant's request for a right-of-way (ROW) authorization to construct, operate, maintain, and decommission the proposed Project in accordance with the BLM's responsibility under Title V of FLPMA and 43 CFR part 2800. The BLM's action of considering the ROW application also contributes towards the legislative and administrative goals of advancing the development of renewable energy production on Federal public lands as directed by section 3104 of the Energy Act of 2020 and Executive Order 14057.

The Project as proposed would not conform to the 1998 Las Vegas RMP as required by 43 CFR 1610.5-3(a). The BLM would need to amend the 1998 Las Vegas RMP to bring the Project into compliance. In particular, the Applicant's proposed Project does not conform with the management objectives of the Project site's VRM classification (Class III) and two existing undeveloped utility corridors that intersect the Project site would require realignment.

The purpose of the BLM's action is to determine if the Applicant's Project and alternatives are consistent with relevant laws, regulations, and policies, and to consider whether to grant, grant with modifications, or deny the ROW. The purpose of the Draft RMP Amendment is to ensure that any development of renewable energy production in the general vicinity of the Applicant's proposed Project site conforms with the RMP's provisions, as provided for in 43 CFR 1610.5-3(c), specifically by reclassifying this geographic area as VRM Class IV and modifying the location of the utility corridors to avoid the Project site.

The Draft EIS addresses the direct, indirect, and cumulative environmental impacts of the Proposed Action and alternatives. Alternatives to the Proposed Action were developed by the BLM to avoid or reduce various resource conflicts. Key resource constraints include habitat for, and presence of, the Mojave desert tortoise, which is listed as threatened under the Endangered Species Act; presence of waters of the United States; limited groundwater resources; vegetation at the Project site; recreation use in the surrounding area; proximity to local communities; and generation of dust.

Alternatives Including the Preferred Alternative

The BLM has analyzed five alternatives in detail: the Applicant Proposed Action, Alternative 1 (BLM preferred alternative), Alternative 2, Alternative 2A, and the No Action Alternative. These are discussed in detail in Chapter 2, Proposed Action and Alternatives, of the Draft RMP Amendment and EIS.

Alternative Action 1, the BLM preferred alternative (referred to as the Resources Integration Alternative) was identified in response to issues raised by the public and agency considerations. The intent of the Resources Integration Alternative is to minimize disturbance to vegetation and soils within the solar facility by setting maximum allowable disturbance thresholds to vegetation during construction, utilizing various construction methods across the site, and setting restoration goals. Grading would be limited to a maximum of 20 percent of the total development area, and construction would involve implementation of overland travel and drive and crush methods such that 60 percent of the vegetation density is maintained.

Alternative 2, which was proposed by the Applicant, and Alternative 2A were designed to minimize disturbance to vegetation and soils within the solar facility by setting maximum allowable disturbance thresholds to vegetation during construction; however, those disturbance thresholds differ from Alternative 1. Under Alternative 2, grading would be limited to a maximum of 25.6 percent (918 acres) of the development area and vegetation would be cut to a maximum of 10 inches anywhere solar panels would be constructed and in a 5-foot buffer around each of the solar arrays. Alternative 2A is a hybrid alternative of Alternative 1 and Alternative 2. Alternative 2A would include the same grading allowance as Alternative 2, but maintain native desert vegetation at a height of 24 inches or taller across the Project site (with trimming allowed to no less than 18 inches where it directly interferes with equipment or panel performance).

The No Action Alternative would be a continuation of existing conditions and the ROW would not be approved.

The BLM further considered a number of additional alternatives but dismissed these alternatives from detailed analysis as explained in the Draft RMP Amendment/EIS and Alternatives Report.

The BLM has identified Alternative Action 1—Resources Integration Alternative as the preferred alternative. Alternative Action 1 was found to best meet the BLM's planning guidance and is designed to be a Project lifecycle alternative, as the alternative addresses not only construction, but also operations, maintenance, and decommissioning of the solar facility. Alternative Action 1 minimizes disturbance to vegetation and soils within the solar facility, and minimizes impacts to wildlife habitat, soils, air quality, and water quality. Alternative Action 1 also reduces impacts to recreation by maintaining an existing OHV route southwest of the Project.

Mitigation

The BLM included forty-four mitigation measures including, but not limited to, the following measures to address key resources:

• Dust control and stabilization (MM AIR-1)

• Emissions control (MM AIR-2)

• Reducing the project footprint and access control (MM WILD-1)

• Qualified biologist (MM WILD-2)

• Wildlife workers environmental awareness program (MM WILD-3)

• Pre-construction and pre-activity surveys (MM WILD-4)

• Minimization of wildlife entrapment (MM WILD-5)

• Minimization of wildlife conflicts (MM WILD-6)

• Protection of mesquite bosque (MM WILD-7)

• Pre-construction western monarch butterfly surveys (MM WILD-8)

• Desert tortoise burrows (MM WILD-9)

• Timing of plant surveys, site restoration, and plan requirements (MM VG-1)

• Cacti, yucca, and perennial plant salvage (MM VG-2)

• Invasive species management (MM VG-3)

• Timing of vegetation maintenance (MM VG-4)

• Visual design considerations and surface treatment procedures (MM VR-1)

• Minimize reflectivity (MM VR-2)

• Night lighting (MM VR-3)

• Minimize visual impacts during construction (MM VR-4)

• Minimize visual impacts during operation and maintenance (MM VR-5)

• Aviation glare notification (MM VR-6)

• OHV route signage for alternative routes (MM REC-1)

• Old Route 16 maintained access (MM REC-2)

• Stormwater quality monitoring program (MM WR-1)

• Prevention of flooding and development in floodplain areas (MM WR-2)

• Spill prevention and control measures (MM WR-3)

• Groundwater pumping meter and development of a groundwater monitoring and reporting plan (MM WR-4)

• Fence maintenance (MM WR-5)

• Septic system documentation and adaptive management (MM WR-6).

These mitigation measures, along with Project Design Features required by the Southern Nevada District Office, management plans, and interagency operating procedures, are provided in full in Appendix B of the Draft RMP Amendment/EIS.

Schedule for the Decision-Making Process

The BLM will provide additional opportunities for public participation consistent with the NEPA and land use planning processes, including a 30-day public protest period and a concurrent 60-day Governor's consistency review on the Proposed RMP Amendment. The Proposed RMP Amendment/Final EIS is anticipated to be available for public protest by late spring 2025, and if the project is authorized, the approved RMP Amendment and Record of Decision would be available by late summer 2025.

The BLM will continue to consult with Indian Tribal Nations on a government-to-government basis in accordance with Executive Order 13175, BLM Manual 1780 and other Departmental policies. Tribal concerns will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, and 43 CFR part 2800)

Jon K. Raby,
State Director.

[FR Doc. 2024-21607 Filed 9-19-24; 8:45 am]

BILLING CODE 4331-21-P